DEPARTMENT OF TRANSPORTATION

Office of the Secretary

Notice of Applications for Certificates of Public Convenience and Necessity and Foreign Air Carrier Permits Filed Under Subpart B (Formerly Subpart Q) During the Week Ending March 14, 2008

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-1996-1131, DOT-OST-1996-1248, and DOT-OST-1996-1873.

Date Filed: March 14, 2008.

Due Date for Answers, Conforming Applications, or Motion to Modify Scope:April 4, 2008.

Description: Application of United Air Lines, Inc. requesting a renewal of its experimental certificate of public convenience and necessity for Route 130, segments 1, 4, 6, 7, 9, and 10 which authorize United to engage in scheduled foreign air transportation of persons, property and mail between various points in the United States and points in Japan, Vietnam and the Philippines.

Docket Number: DOT-OST-2008-0105.

Date Filed: March 14, 2008.

Due Date for Answers, Conforming Applications, or Motion to Modify Scope:April 4, 2008.

Description: Application of Federal Express Corporation (“FedEx Express”) requesting an exemption authorizing scheduled foreign air transportation of property and mail (1) between Oakland, California, on the one hand, and Guadalajara and Monterrey, Mexico, on the other hand, as of April 1, 2008, (2) between Lafayette, Louisiana and Guadalajara, Mexico as of May 1, 2008. FedEx Express also requests an amendment to its certificate of public convenience and necessity for Route 568 to engage in scheduled foreign air transportation of property and mail between a point or points in the United States and a point or points in Mexico.

Renee V. Wright,
Program Manager, Docket Operations, Federal Register Liaison.

[FR Doc. E8-10056 Filed 5-6-08; 8:45 am]

BILLING CODE 4910-9X-P